DEPARTMENT OF ENERGY

Federal Energy Regulatory Commission

[Docket Nos. RP00-397-000, RP01-33-000 and RP01-33-001; RP00-398-000, RP01-34-000 and RP01-34-001; (Not Consolidated)]

Questar Pipeline Company and Overthrust Pipeline Company; Notice of Technical Conference

December 14, 2000.

On July 17, 2000, Questar Pipeline Company (Questar) and Overthrust Pipeline Company (Overthrust) submitted filings to comply with Order No. 637. Several parties have protested various aspects of Questar's and Overthrust's filings. Subsequently, on October 10, 2000, Questar and Overthrust submitted filings to comply with Order Nos. 587-G and 587-L. The Commission accepted the 587-L filings subject to further consideration in Questar's and Overthrust's Order No. 637 filings.

Take notice that back-to-back technical conferences to discuss the various issues raised by Questar's and Overthrust's filings will be held on Thursday, January 11, 2001, at 9:00 A.M., in a room to be designated at the Federal Energy Regulatory Commission, 888 First Street, NE, Washington, DC 20426. The conferences will begin with a discussion of Questar's filings. These technical conferences may extend to Friday, January 12, 2001.

Among the major areas to be addressed is Questar's and Overthrust's segmentation proposals. Therefore, Questar and Overthrust should provide current maps of their systems and be prepared to discuss their systems operations. Parties protesting aspects of Questar's and Overthrust's filings should be prepared to discuss alternatives.

All interested persons and Staff are permitted to attend.

David P. Boergers,
Secretary.

[FR Doc. 00-32351 Filed 12-19-00; 8:45 am]

BILLING CODE 6717-01-M